DEPARTMENT OF JUSTICE

Notice of Lodging of Consent Decree Pursuant to the Comprehensive Environmental Response, Compensation and Liability Act

In accordance with Department of Justice policy codified at 28 CFR 50.7 and Section 122 of CERCLA, 42 U.S.C. 9622, notice is hereby given that on April 11, 2000, a proposed Consent Decree in United States v. SC Holding, et al., Civ. Action No. 1:00CV150, was lodged with the United States District Court for the Northern District of Indiana. This Consent Decree represents a settlement of claims of the United States and the State of Indiana, on behalf of federal and State natural resource trustees, under Section 107(a) of CERCLA, 42 U.S.C. 9607(a), against SC Holdings and eight-six (86) other potentially responsible parties for natural resource damages resulting from the release of hazardous substances at or from the Fort Wayne Reduction Superfund Site located in Fort Wayne, Allen County, Indiana. Under this Consent Decree, the Settling Defendants, which include two site owners and seventeen generators of hazardous substances, will implement a restoration plan under which they will, among other things, acquire approximately 75 acres of land adjacent to the Maumee River (“Property”), reforest and restore approximately 45 acres of the Property, place a deed restriction (in the form of a conservation easement) on the Property and convey the Property to the Indiana Department of Natural Resources. The Settling Defendants will reimburse the federal natural resource trustee, the United States Department of Interior, through the United States Fish and Wildlife Service, $90,000 in estimated natural resource damage assessment costs and $8,000 in estimated project oversight costs. The Settling Defendants will also reimburse the State natural resource damage trustee, the State of Indiana, through the Indiana Department of Environmental Management and the Indiana Department of Natural Resources, $2,000 and $1,500 respectively, for their natural resource damage assessment costs and estimated project oversight costs. Finally, sixty-eight (68) parties who contributed small amounts of hazardous substances to the Site and who previously settled their natural resource damage liability with the Settling Defendants will receive a covenant not to sue from the United States and the State of Indiana for natural resource damages resulting from releases of hazardous substances at or from the Site.

The Department of Justice will receive for a period of thirty (30) days from the date of this publication comments relating to the proposed Consent Decree. Comments should be addressed to the Assistant Attorney General of the Environment and Natural Resources Division, Department of Justice, 950 Pennsylvania Avenue, NW, Washington, DC 20530, and should refer to United States v. SC Holdings et al., Civ. Action No. 1:00CV150, D.J. Ref. Nos. 90-11-3-1687/2, 90-11-6-05585.

The Consent Decree may be examined at the Office of the United States Attorney, 3128 Federal Building, 1300 South Harrison Street, Fort Wayne, Indiana 46802, and at the United States Fish and Wildlife Service, 620 South Walker Street, Bloomington, Indiana 47403. A copy of the Consent Decree may also be obtained by mail from the Consent Decree Library, P.O. Box 7611, U.S. Department of Justice, Washington, DC 20044-7611. In requesting a copy of the Consent Decree, please enclose a check in amount of $22.50 (90 pages at 25 cents per page reproduction cost) payable to the Consent Decree Library.

Joel M. Gross,
Chief, Environmental Enforcenent Section, Environment & Natural Resources Division.

[FR Doc. 00-10230 Filed 4-24-00; 8:45 am]

BILLING CODE 4410-15-M